DEPARTMENT OF LABOR

Employment and Training Administration

[TA-W-62,300]

General Electric (GE) C&I Mattoon Lamp Plant; Lighting Division; Mattoon, IL; Notice of Termination of Investigation

Pursuant to Section 221 of the Trade Act of 1974, as amended, an investigation was initiated on October 12, 2007 in response to a worker petition filed by a company official on behalf of workers of General Electric (GE) C&I Mattoon Lamp Plant, Lighting Division, Mattoon, Illinois.

The petitioner has requested that the petition be withdrawn. Consequently, the investigation has been terminated.

Signed at Washington, DC this 15th day of November 2007.
Elliott S. Kushner,
Certifying Officer, Division of Trade Adjustment Assistance.

[FR Doc. E7-23376 Filed 11-30-07; 8:45 am]

BILLING CODE 4510-FN-P